DEPARTMENT OF THE INTERIOR

Bureau of Indian Affairs

[212A2100DD/AAKC001030/A0A501010.999900 253G]

Advisory Board of Exceptional Children

AGENCY: Bureau of Indian Affairs, Interior.

ACTION: Notice of meeting.

SUMMARY: The Bureau of Indian Education (BIE) is announcing that the Advisory Board for Exceptional Children (Advisory Board) will hold two separate online meetings. The purpose of the meetings are to meet the mandates of the Individuals with Disabilities Education Act of 2004 (IDEA) for Indian children with disabilities. Due to the COVID-19 pandemic and for the safety of all individuals, it will be necessary to conduct online meetings.

DATES: The first meeting will be a two-day online meeting on Wednesday, July 28, 2021 from 8 a.m. to 4 p.m. Mountain Daylight Time (MDT) and Thursday, July 29, 2021 from 8 a.m. to 4 p.m. MDT. The second meeting will be one-day online meeting on Wednesday, September 22, 2021 from 8 a.m. to 4 p.m. MDT.

ADDRESSES: All BIE Advisory Board activities and meetings will be conducted online. See the SUPPLEMENTARY INFORMATION section of this notice for information on how to join the meetings. Public comments can be emailed to the DFO at Jennifer.davis@bie.edu; or faxed to (602) 265-0293 Attention: Jennifer Davis, DFO; or mailed or hand delivered to the Bureau of Indian Education, Attention: Jennifer Davis, DFO, 2600 N. Central Ave., 12th floor, Suite 250, Phoenix, AZ 85004.

FOR FURTHER INFORMATION CONTACT: Jennifer Davis, Designated Federal Officer, Bureau of Indian Education, 2600 N. Central Ave., 12th floor, Suite 250, Phoenix, AZ 85004, Jennifer.davis@bie.edu, or (202) 860-7845 or (602) 240-8597.

SUPPLEMENTARY INFORMATION: In accordance with the Federal Advisory Committee Act, the BIE is announcing the Advisory Board will hold its next two meetings online. The Advisory Board was established under the Individuals with Disabilities Act of 2004 (20 U.S.C. 1400 et seq.) to advise the Secretary of the Interior, through the Assistant Secretary-Indian Affairs, on the needs of Indian children with disabilities. These meetings are open to the public.

I. July 2021 Meeting of the BIE Advisory Board

A. Agenda for July Meeting

The following agenda items will be for the July 28, 2021 and July 29, 2021 meeting. The BIE Advisory Board will hear report regarding special education topics from the:

• BIE Central Office—Some questions that will be answered are: What are some of the challenges the BIE is facing regarding COVID related issues? What additional steps has the BIE taken to ensure the well-being of all students in BIE funded schools across the country? Are the schools using specific trauma informed curricula?

• BIE/Division of Performance and Accountability (DPA)/Special Education Program—Some questions that will be answered are: For graduation rates and dropout rates, what progress has been made in graduation rates for SWD as compared to students without disabilities in BIE schools? Describe the Certification of Completion for SWD?

• Miccosukee Indian School and Cheyenne Eagle Butte School—Two schools have been asked to provide their presentation by responding to several questions the Advisory Board has asked. Some of the questions are: Considering the impact of COVID-19 in the past year, how has your school addressed challenges related to academics, learning loss, student and educator wellness, resiliency and social-emotional learning, in general for all faculty, staff, and students and for students with disability, specifically? Instruction delivery—Can you describe the current status of instructional delivery? For example, is there adequate provision of broadband access, technology, adaptive equipment required to address the student's needs and academic goals?

• BIE Office of the Director/BIE Student Health Program—Some topics that will be addressed are: Provide an overview about the BIE's Behavior Health Program (BHP), including the history, purpose of the program, staff working in the program, the location site(s), how and when the BHP program got started. Since the inception of the BIE's BHP, provide an update about the projects that have taken place and the progress of these projects.

• BIE Performance Office—Some topics that will be addressed are: Provide an update about the recent virtual monitoring for the six school sites that were monitored in spring of 2021. Describe the process of providing technical assistance to the schools, the timeline to complete the follow-up with each school; and the overall finalization of the 2020-2021 virtual monitoring.

B. Public Commenting Sessions for the July Meeting

Four Public Commenting Sessions will be provided during the July meeting days.

○ On Wednesday, July 28, 2021 two sessions (15 minutes each) will be provided, 11:45 a.m. to 12 p.m. MDT and 1 p.m. to 1:15 p.m. MDT. Public comments can be provided via webinar or telephone conference call. Please use the online access codes as listed below.

○ On Thursday, July 29, 2021 two sessions (15 minutes each) will be provided, 10:45 a.m. to 11 a.m. MDT and 12:30 p.m. to 12:45 p.m. MDT. Public comments can be provided via webinar or telephone conference call. Please use the online access codes as listed below.

○ Public comments can also be submitted to the address listed in the ADDRESSES section of this notice.

C. To Access the Wednesday, July 28, 2021 and Thursday, July 29, 2021 Meeting

You can join the July meeting through any of the following means:

• Join ZoomGov Meeting using: https://www.zoomgov.com/j/1603375406?pwd=Q2ZOc0dNSkVlVi8rK0xCendFNHl2dz09

• One tap mobile: Meeting ID: 160 337 5406 Passcode: 343566

+16692545252,,1603375406#,,,,*343566# US (San Jose)

+16468287666,,1603375406#,,,,*343566# US (New York)

• Dial by your location: Meeting ID: 160 337 5406 Passcode: 343566

+1 669 254 5252 US (San Jose), +1 646 828 7666 US (New York)

+1 669 216 1590 US (San Jose), +1 551 285 1373 US

Find your local number: https://www.zoomgov.com/u/abz0edJQ8o

II. September 2021 Meeting of the BIE Advisory Board

A. Agenda for September Meeting

The following agenda items for the Wednesday, September 22, 2021 meeting are:

• BIE Advisory Board—The Board will be developing and finalizing the 2021 Annual Report between the hours of 8 a.m. to 4 p.m. MDT.

B. Public Commenting Sessions for the September Meeting

Public Commenting Sessions will be provided during the meeting.

○ On Wednesday, September 22, 2021 two sessions (15 minutes each) will be provided, 11:45 a.m. to 12 p.m. MDT and 1 p.m. to 1:15 p.m. MDT. Public comments can be provided via webinar or telephone conference call. Please use the online access codes as listed below.

○ Public comments can also be submitted to the address listed in the ADDRESSES section of this notice.

C. To Access the Wednesday, September 22, 2021 Meeting

You can join the meetings through any of the following means:

• Join ZoomGov Meeting using: https://www.zoomgov.com/j/1616957886?pwd=WUphMHBGeEZkcWtlRmhxQU4yUUlVQT09

• One tap mobile: Meeting ID: 161 695 7886 Passcode: 010721

+16692545252,,1616957886#,,,,*010721# US (San Jose)

+15512851373,,1616957886#,,,,*010721# US

• Dial by your location: Meeting ID: 161 695 7886 Passcode: 010721

+1 669 254 5252 US (San Jose), +1 646 828 7666 US (New York)

+1 669 216 1590 US (San Jose), +1 551 285 1373 US

Find your local number: https://www.zoomgov.com/u/ad8eION8TN

Authority: 5 U.S.C. Appendix 5; 20 U.S.C. 1400 et seq.

Bryan Newland,
Principal Deputy Assistant Secretary—Indian Affairs.

[FR Doc. 2021-13391 Filed 6-23-21; 8:45 am]

BILLING CODE 4337-15-P